DEPARTMENT OF LABOR

Office of the Secretary

Submission for OMB Review; Comment Request

March 30, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), on or before May 8, 2000.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Title: Inorganic Arsenic (29 CFR 1910.1018).

Type of Review: Extension of a currently approved collection.

OMB Number: 1218-0104.

Frequency: On occasion.

Affected Public: Business or other for-profit; Federal Government; State, Local or Tribal Government.

Respondents: 42.

Responses: 58,763.

Estimated Time Per Respondent: Time per response ranges from approximately 5 minutes for employers to maintain employee exposure monitoring and medical records to 1.67 hours for an employee to complete a medical examination.

Total Burden Hours: 7,376.

Total Annualized capital/startup: $0.

Total annual costs (operating/maintaining systems or purchasing services): $1,132,408.

Description: The information collection requirements in the Inorganic Arsenic Standard provide protection for employees from the adverse health effects associated with occupational exposure to inorganic arsenic. The Inorganic Arsenic Standard requires employers to monitor employee exposure to inorganic arsenic; monitor employee health; develop and maintain employee exposure-monitoring records; notify OSHA area office in writing of regulated areas, and changes to these areas; and provide employees with information about their exposures and the health effects of exposure to inorganic arsenic.

Agency: Occupational Safety and Health Administration.

Title: Coke Oven Emissions (29 CFR 1910.1028).

Type of Review: Extension of a currently approved collection.

OMB Number: 1218-0128.

Frequency: On occasion.

Affected Public: Business or other for-profit; Federal Government, State, Local or Tribal Government.

Respondents: 14.

Responses: 83,111.

Estimated Time Per Respondent: Time per response ranges from approximately 5 minutes for employers to maintain employee exposure monitoring and medical records to 4 hours to complete a medical examination.

Total Burden Hours: 60,664.

Total Annualized capital/startup: $0.

Total annual costs (operating/maintaining systems or purchasing services): $1,365,365.

Description: The Coke Oven Standard, and its information collection requirements, is designed to provide protection for employees from the adverse health effects associated with occupational exposure to coke oven emissions. The Coke Oven Standard requires employers to monitor employee exposure to coke oven emissions, to monitor employee health, and to provide employees with information about their exposures and the health effects of exposure to coke oven emissions.

Agency: Occupation Safety and Health Administration.

Title: 1,3-Butadiene (29 CFR 1910.1051).

Type of Review: Extension of a currently approved collection.

OMB Number: 1218-0170.

Frequency: On occasion.

Affected Public: Business or other for-profit; Federal Government; State, Local or Tribal Government.

Respondents: 115.

Responses: 335,944.

Estimated Time Per Respondent: Time per response ranges from approximately 5 minutes for employers to maintain employee exposure monitoring and medical records to 1.5 hours for an employee to complete a medical examination.

Total Burden Hours: 2,909.

Total Annualized capital/startup: $0.

Total annual costs (operating/maintaining systems or purchasing services): $82,010.

Description: The information collection requirements in the 1,3-Butadiene Standard provide protection for employees from the adverse health effects associated with occupational exposure to 1,3-Butadiene. The 1,3-Butadiene Standard requires employers to monitor employee exposure to 1,3-Butadiene; develop and maintain compliance and exposure-goal programs if employee exposures to 1,3-Butadiene are above the Standard's permissible exposure limits or action level; monitor employee health, and to provide employees with information about their exposures and the health effects of exposure to 1,3-Butadiene.

Agency: Pension and Welfare Benefits Administration.

Title: Notice of Enrollment Rights.

Type of Review: Extension of a currently approved collection.

OMB Number: 1210-0101.

Affected Public: Business or other for-profit, Not-for-profit institutions, Individuals or households.

Frequency of Response: On occasion.

Respondents: 2,600,000.

Responses: 9,602,000.

Total Estimated Burden Hours: 7,200.

Total Annualized Capital/Startup Costs: $0.

Total Annual Cost (Operating and Maintenance): $841,000.

Total Annualized Cost: $841,000.

Description: Subtitle B of Title 1 of ERISA, Part 7, section 707, added by the Health Care Portability and Accountability Act of 1996 (Pub. L. 104-191, August 31, 1996) (HIPAA) authorizes the Secretary of Labor, in coordination with the Secretary of Health and Human Services (HHS) and the Secretary of the Treasury, to promulgate such regulations as may be necessary or appropriate to carry out the provisions of the Statute. Accordingly, Interim Rules Implementing the Portability Requirement for Group Health Plans were published on April 8, 1997 (62 FR 16920 through 16923) (April 8 Interim Rules).

In order to improve participants' understanding of their rights under an employer's group health plan, HIPAA requires that a participant be provided with a description of a plan's special enrollment rules on or before the time when a participant is offered the opportunity to enroll in a group health plan. This ICR covers the disclosure of enrollment rights.

Agency: Pension and Welfare Benefits Administration.

Title: Notice of Pre-existing Condition Exclusion.

Type of Review: Extension of a currently approved collection.

OMB Number: 1210-0102.

Affected Public: Business or other for-profit, Not-for-profit institutions, Individuals or households.

Frequency of Response: On occasion.

Respondents: 1,300,000.

Responses: 8,570,000.

Total Estimated Burden Hours: 9,004.

Total Annualized Capital/Startup Costs: $0.

Total Annual Cost (Operating and Maintenance): $1,088,000.

Total Annualized Cost: $1,088,000.

Description: Subtitle B of Title 1 of ERISA, Part 7, section 707, added by the Health Care Portability and Accountability Act of 1996 (Pub. L. 104-191, August 31, 1996) (HIPAA) authorizes the Secretary of Labor, in coordination with the Secretary of Health and Human Services (HHS) and the Secretary of the Treasury, to promulgate such regulations as may be necessary or appropriate to carry out the provisions of the statute. Accordingly, Interim Rules implementing the Portability Requirement for Group Health Plans were published on April 8, 1997 (62 FR 16920 through 16923) (April 8 Interim Rules).

In order to meet HIPAA's goal of improving portability of health care coverage, participants need to understand their right to demonstrate prior creditable coverage when entering a group health plan that imposes pre-existing condition exclusion provisions. In addition, participants entering plans that use an alternative method of determining creditable coverage also need to be informed of the plan's provisions. Therefore, the Department has determined that plans that contain these provisions must disclose that fact to new participants, as well as inform individual participants of the extent to which a pre-existing condition exclusion applies to them. This ICR covers the disclosure of pre-existing condition exclusions.

Agency: Pension and Welfare Benefits Administration.

Title: Establishing Prior Creditable Coverage.

Type of Review: Extension of a currently approved collection.

OMB Number: 1210-0103.

Affected Public: Business or other for-profit, Not-for-profit institutions, Individuals or households.

Frequency of Response: On occasion.

Respondents: 2,600,000.

Reponses: 44,396,000.

Total Estimated Burden Hours: 351,150.

Total Annual Cost (Operating and Maintenance): 429,289,000.

Total Annualized Cost: $34,689,000.

Description: Subtitle B of Title 1 of ERISA, Part 7, section 707, added by the Health Care Portability and Accountability Act of 1996 (Pub. L. 104-191, August 31, 1996) (HIPAA) authorizes the Secretary of Labor, in coordination with the Secretary of Health and Human Services (HHS) and the Secretary of the Treasury, to promulgate such regulations as may be necessary or appropriate to carry out the provisions of the statute. Accordingly, Interim Rules implementing the Portability Requirement for Group Health Plans were published on April 8, 1997, (62 FR 16920 through 16923) (April 8 Interim Rules).

In order to meet HIPAA's goal of improving access to and portability of health care benefits, the statute provides that, after the submission of evidence establishing prior creditable coverage, a subsequent health insurance provider would be limited to the extent to which it could use pre-existing condition exclusions to limit coverage. This ICR covers the submission of materials sufficient to establish prior creditable coverage.

Ira L. Mills,
Department Clearance Officer.

[FR Doc. 00-8444 Filed 4-5-00; 8:45 am]

BILLING CODE 4510-29-M